Title 3—

The President

Proclamation 10208 of May 7, 2021

Peace Officers Memorial Day and Police Week, 2021

By the President of the United States of America

A Proclamation

Every day, we ask a great deal of the men and women of our Nation's law enforcement agencies; from ensuring public safety, to serving as front-line workers, to responding to incidents involving domestic violence, substance use disorders, mental health challenges, and homelessness, often with limited resources. Every morning, our Nation's law enforcement officers pin on a badge and go to work, not knowing what the day will bring, and hoping to come home safely. This year, even as the COVID-19 pandemic took a physical, mental, and emotional toll, our officers, deputies, and troopers demonstrated courage and dedication in continuing to support our communities. As we recognize Peace Officers Memorial Day and Police Week, we honor those who lost their lives in the line of duty, and thank them on behalf of this grateful Nation for their service.

The economic toll of the COVID-19 pandemic has strained State, local, and Tribal budgets—forcing many communities to stretch their funding, consider layoffs, and reduce public services. My Administration will support our Nation's law enforcement agencies and officers and work to ensure they have the resources and research tools they need to do their jobs successfully and the funding necessary to enhance officer safety and wellness, including improving access to mental health services. We will also continue to bolster initiatives that protect our law enforcement officers' physical safety—including those that provide for bulletproof vests and active shooter training.

This year, we also recognize that in many of our communities, especially Black and brown communities, there is a deep sense of distrust towards law enforcement; a distrust that has been exacerbated by the recent deaths of several Black and brown people at the hands of law enforcement. These deaths have resulted in a profound fear, trauma, pain, and exhaustion for many Black and brown Americans, and the resulting breakdown in trust between law enforcement and the communities they have sworn to protect and serve ultimately makes officers' jobs harder and more dangerous as well. In order to rebuild that trust, our State, local, and Federal Government and law enforcement agencies must protect constitutional rights, ensure accountability for misconduct, and embrace policing that reflects community values and ensures community safety. These approaches benefit those who wear the badge and those who count on their protection.

We must also stop tasking law enforcement with problems that are far beyond their jurisdictions. From providing emergency health care to resolving school discipline issues, our communities rely on the police to perform services that often should be the duty of other institutions. We then accuse the police of failure when responsibility lies with public policy choices they did not make. Supporting our law enforcement officers requires that we invest in underfunded public systems that provide health care, counseling, housing, education, and other social services.

There are many ways we can demonstrate appreciation for our law enforcement heroes. We recognize acts of bravery through the Public Safety Officer Medal of Valor and the Law Enforcement Congressional Badge of Bravery. We must also acknowledge the challenge and value of their service through the Law Enforcement Mental Health and Wellness Act of 2017 and the Supporting and Treating Officers in Crisis Act of 2019. Should tragedy strike, Public Safety Officers' benefits must be available for the families of officers who lose their lives or are catastrophically injured in the line of duty.

This country asks much of our Federal, State, Tribal, and local police officers and deputies, and it is our solemn responsibility to ensure that those who protect and serve have the training, resources, and support they need to do their jobs well. My Administration will do everything we can to support the men and women who so courageously protect us.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, JOSEPH R. BIDEN JR., President of the United States of America, do hereby proclaim May 15, 2021, as Peace Officers Memorial Day and May 9 through May 15, 2021, as Police Week. I call upon all Americans to observe these events with appropriate ceremonies and activities. I further encourage all Americans to display the flag from their homes and businesses on that day.

IN WITNESS WHEREOF, I have hereunto set my hand this seventh day of May, in the year of our Lord two thousand twenty-one, and of the Independence of the United States of America the two hundred and forty-fifth.

[FR Doc. 2021-10306

Filed 5-12-21; 11:15 am]

Billing code 3295-F1-P